DEPARTMENT OF HEALTH AND HUMAN SERVICES

Administration for Children and Families

[Program Announcement No. 93612-2002A]

Fiscal Year 2002 Discretionary Announcement for The Administration for Native Americans Availability of Financial Assistance

AGENCY: Administration for Native Americans, ACF, DHHS.

ACTION: Correction.

SUMMARY: This document contains a correction to the Notice that was published in the Federal Register on Wednesday, June 27, 2001 (66 FR 34206). On page 34208, second column, first paragraph the following statement “Current grantees whose grant project period extends beyond September 30, 2001” is incorrect. The correct statement should read “Current grantees whose grant project period extends beyond September 30, 2002”.

On page 34210, third column, second paragraph, the following statement “Current ANA SEDS grantees whose grant project period ends on or before September 30, 2001” is incorrect. The correct statement should read “current ANA SEDS grantees who grant project period ends on or before September 30, 2002”.

On page 34216, second column, second paragraph, the following statement “Applicants for new grants may not have a pending request to extend their existing grant beyond 2001” is incorrect. The correct statement should read “Applicants for new grants may not have a pending request to extend their existing grant beyond 2002”.

FOR FURTHER INFORMATION CONTACT: The Administration for Native Americans for referral to the appropriate contact person in ANA for programmatic questions or send an email to ANA@acf.dhhs.gov.

Dated: July 9, 2001.
Larry A. Guerrero,
Acting Commissioner, Administration for Native Americans.

[FR Doc. 01-17510 Filed 7-12-01; 8:45 am]

BILLING CODE 4184-01-M